DEPARTMENT OF DEFENSE

Department of the Army, Corps of Engineers

33 CFR Chapter II

[Docket Number: COE-2020-0002]

RIN 0710-AA84

Reissuance and Modification of Nationwide Permits; Correction

AGENCY: Army Corps of Engineers, DoD.

ACTION: Final rule; correction.

SUMMARY: The U.S. Army Corps of Engineers published a document in the Federal Register of January 13, 2021, a final rule concerning the reissuance and modification of nationwide permits. This document contains a correction to the rule.

DATES: This correction is effective May 20, 2021, and is applicable beginning March 15, 2021.

ADDRESSES: U.S. Army Corps of Engineers, Attn: CECW-CO-R, 441 G Street NW, Washington, DC 20314-1000.

FOR FURTHER INFORMATION CONTACT: Mr. David Olson at 202-761-4922 or by email at david.b.olson@usace.army.mil, or access the U.S. Army Corps of Engineers Regulatory Home Page at https://www.usace.army.mil/Missions/Civil-Works/Regulatory-Program-and-Permits/.

SUPPLEMENTARY INFORMATION:

Correction

In the Federal Register of January 13, 2021, in FR Doc. 2021-00102, appearing on page 2744, the following correction is made:

1. On page 2863, third column, correct the third paragraph of NWP 52 to read as follows: “The discharge must not cause the loss of greater than ½-acre of waters of the United States. The placement of a transmission line on the bed of a navigable water of the United States from the renewable energy generation unit(s) to a land-based collection and distribution facility is considered a structure under Section 10 of the Rivers and Harbors Act of 1899 (see 33 CFR 322.2(b)), and the placement of the transmission line on the bed of a navigable water of the United States is not a loss of waters of the United States for the purposes of applying the ½-acre limit.”

Approved:
Thomas P. Smith,
Chief, Operations and Regulatory Division, Directorate of Civil Works.

[FR Doc. 2021-10623 Filed 5-19-21; 8:45 am]

BILLING CODE 3720-52-P